DEPARTMENT OF COMMERCE

Foreign-Trade Zones Board

[Order No. 1407]

Expansion of Foreign-Trade Zone 167, Green Bay, Wisconsin

Pursuant to its authority under the Foreign-Trade Zones Act of June 18, 1934, as amended (19 U.S.C. 81a-81u), the Foreign-Trade Zones Board (the Board) adopts the following Order:

Whereas, the County of Brown, Wisconsin, grantee of Foreign-Trade Zone 167, submitted an application to the Board for authority to expand FTZ 167-Site 1 to include additional parcels in Brown County and to expand the zone to include a site (1,617 acres, Site 2) in Winnebago County, Wisconsin, within the Green Bay Customs port of entry (FTZ Docket 51-2004; filed 11/12/04);

Whereas, notice inviting public comment was given in the Federal Register (69 FR 67699, 11/19/04; 69 FR 70122, 12/2/04) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 167 is approved, subject to the Act and the Board's regulations, including Section 400.28, and further subject to the Board's standard 2,000-acre activation limit for the overall zone project.

Signed at Washington, DC, this 4th day of August 2005.

Joseph A. Spetrini,
Acting Assistant Secretary of Commerce for Import Administration, Alternate Chairman, Foreign-Trade Zones Board.
Attest:
Dennis Puccinelli,
Executive Secretary.

[FR Doc. 05-16402 Filed 8-17-05; 8:45 am]

BILLING CODE 3510-DS-S